DEPARTMENT OF THE TREASURY

Fiscal Service

Fee Change for Paying Agents Redeeming Definitive Savings Bonds and Savings Notes

AGENCY: Bureau of the Public Debt, Fiscal Service, Treasury.

ACTION: Notice.

SUMMARY: Effective April 11, 2012, the Department of the Treasury will no longer pay fees to paying agents for redeeming definitive savings bonds and savings notes. The purpose of this change is to reduce Treasury's program costs.

DATES: Effective Date: April 11, 2012.

ADDRESSES: A copy of this Notice is available at http://www.gpoaccess.gov/fr.

FOR FURTHER INFORMATION CONTACT:

D. Michael Linder, Director, Division of Program Administration, Office of Retail Securities, Bureau of the Public Debt, at (304) 480-6319 or <mike.linder@bpd.treas.gov>.

Ann Fowler, Attorney-Adviser, Brian Metz, Attorney-Adviser, Dean Adams, Assistant Chief Counsel, or Edward Gronseth, Deputy Chief Counsel, Office of the Chief Counsel, Bureau of the Public Debt, at (304) 480-8692 or <ann.fowler@bpd.treas.gov>.

SUPPLEMENTARY INFORMATION: Beginning October 1, 1988, Treasury permitted paying agents to transmit and receive settlement for redeemed definitive savings bonds and savings notes through the EZ CLEAR system. The EZ CLEAR system required paying agents to manually sort and mail definitive savings bonds and savings notes to the appropriate Federal Reserve Bank or Branch. Treasury paid paying agents a 30-cent fee for each redeemed definitive savings bond or savings note presented through the EZ CLEAR system.

Effective April 11, 2012, paying agents will begin to transition the submission of redeemed definitive savings bonds and savings notes from the EZ CLEAR process to an existing image-based process through the Federal Reserve. This simple and modern process allows paying agents to electronically transmit images of redeemed definitive savings bonds and savings notes to a Federal Reserve Processing Site for payment. Because the new process removes the manual sorting and mailing required by the former process, Treasury is eliminating the fee that it paid to paying agents for submitting redeemed definitive savings bonds and notes. The elimination of paying agent fees will result in significant program savings.

This fee change is consistent with 31 CFR 321.23, which makes discretionary Treasury's payment of fees to paying agents for the processing of redeemed definitive savings bonds and savings notes. Therefore, notice is hereby given that, effective April 11, 2012, Treasury will no longer pay fees to paying agents for the redemption of definitive savings bonds and savings notes.

Richard L. Gregg,
Fiscal Assistant Secretary.

[FR Doc. 2012-7951 Filed 4-2-12; 8:45 am]

BILLING CODE 4810-39-P